DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by January 13, 2005.

Title, Form, and OMB Number: Application for a Department of Army Permit; Eng Form 4345; OMB Control Number 0710-0003.

Type of Request: Revision.

Number of Respondents: 85,500.

Responses Per Respondent: 1.

Annual Responses: 85,500.

Average Burden Per Response: 10 hours.

Annual Burden Hours: 340,000.

Needs and Uses: Information collected is used to evaluate, as required by law, proposed construction or filing in waters of the United States that result in impacts to the aquatic environment and nearby properties, and to determine if issuance of a permit is in the public interest. Respondents are private landowners, businesses, non-profit organizations, and government agencies.

Affected Public: Individuals or households; business or other for-profit; not-for-profit institutions; farms; Federal government; State, local or tribal government.

Frequency: On occasion.

Respondents Obligation: Mandatory.

OMB Desk Officer: Ms. Jacqueline Zeiher.

Written comments and recommendations on the proposed information collection should be sent to Ms. Zeiher at the Office of Management and Budget, Desk Officer for DoD, Room 10236, New Executive Office Building, Washington, DC 20503.

DOD Clearance Officer: Ms. Patricia Toppings.

Written requests for copies of the information collection proposal should be sent to Ms. Toppings, WHS/ESCD/Information Management Division, 1225 South Clark Street, Suite 504, Arlington, VA 22202-4326.

Dated: December 6, 2004.
Patricia L. Toppings,
Alternate OSD Federal Register Liaison Officer, Department of Defense.

[FR Doc. 04-27309 Filed 12-13-04; 8:45 am]

BILLING CODE 5001-06-M